DEPARTMENT OF TRANSPORTATION

Coast Guard

33 CFR Part 117

[CGD07-02-021]

Drawbridge Operation Regulations: Hatchett Creek (US 41), Gulf Intracoastal Waterway, Venice, Sarasota County, FL

AGENCY: Coast Guard, DOT.

ACTION: Notice of temporary deviation from regulations.

SUMMARY: The Commander, Seventh Coast Guard District, has approved a deviation from the regulations governing the operation of the new Hatchett Creek (US 41) bridge across the Gulf Intracoastal Waterway in Venice, Florida. This deviation allows the drawbridge owner to only open one leaf of the bridge from March 18, 2002, until May 15, 2002, to complete construction of the new bascule leaves. A double leaf opening is available with 6 hours notice to bridge tender.

DATES: This rule is effective from 12:01 a.m. on March 18, 2002, until 11:59 p.m. on May 15, 2002.

ADDRESSES: Comments and material received from the public, as well as comments indicated in this preamble as being available in the docket, are part of docket [CGD07-02-021] and are available for inspection or copying at Commander (obr), Seventh Coast Guard District, 909 SE. 1st Avenue, Room 432, Miami, FL 33131 between 8 a.m. and 4 p.m., Monday through Friday, except Federal holidays.

FOR FURTHER INFORMATION CONTACT: Mr. Barry Dragon, Chief, Operations Section, Seventh Coast Guard District, Bridge Branch at (305) 415-6743.

SUPPLEMENTARY INFORMATION: The Florida Department of Transportation requested that the Coast Guard temporarily allow the Hatchett Creek bridge to only open a single leaf of the bridge from March 18, 2002, until May 15, 2002. Double leaf openings will be available with 6 hour advance notice to the bridge tender. This temporary deviation from the existing bridge regulations is necessary to complete construction of the new bascule leaves. The Hatchett Creek (US 41), bridge has a horizontal clearance of 45 feet between the fender and the down span.

The District Commander has granted a temporary deviation from the operating requirements listed in 33 CFR 117.5 to allow the owner to complete construction of the new bascule leaves. Under this deviation, the Hatchett Creek (US 41) bridge need only open a single leaf of the bridge from March 18, 2002, until May 15, 2002. Double leaf openings will be available with a 6 hour advanced notice to the bridge tender.

Dated: March 13, 2002.
Greg Shapley,
Chief, Bridge Administration, Seventh Coast Guard District.

[FR Doc. 02-7001 Filed 3-22-02; 8:45 am]

BILLING CODE 4910-15-U